DEPARTMENT OF COMMERCE

Foreign-Trade Zones Board

[B-35-2019]

Foreign-Trade Zone (FTZ) 185—Front Royal, Virginia; Authorization of Production Activity Merck & Co., Inc. (Pharmaceuticals) Elkton, Virginia

On May 3, 2019, Merck & Co., Inc. submitted a notification of proposed production activity to the FTZ Board for its facility within FTZ 185, in Elkton, Virginia.

The notification was processed in accordance with the regulations of the FTZ Board (15 CFR part 400), including notice in the Federal Register inviting public comment (84 FR 21326, May 14, 2019). On September 3, 2019, the applicant was notified of the FTZ Board's decision that no further review of the activity is warranted at this time. The production activity described in the notification was authorized, subject to the FTZ Act and the FTZ Board's regulations, including Section 400.14.

Dated: September 3, 2019.
Andrew McGilvray
Executive Secretary.

[FR Doc. 2019-19420 Filed 9-6-19; 8:45 am]

BILLING CODE 3510-DS-P